DEPARTMENT OF AGRICULTURE

Forest Service

Manti-La Sal National Forest, Muddy Creek Coal Area, Sanpete and Sevier Counties, UT; Notice of Intent To Prepare an Environmental Impact Statement

AGENCY: Forest Service, USDA.

ACTION: Notice of intent to prepare an Environmental Impact Statement.

SUMMARY: The Forest Service (FS) will prepare an Environmental Impact Statement (EIS) to disclose the environmental and human effects of coal mining within the Muddy Creek Area, and to identify terms and conditions needed to protect non-mineral resources consistent with the Manti-La Sal National Forest Land and Resource Management Plan (Forest Plan). The Office of Surface Mining Reclamation and Enforcement (OSM) and the Bureau of Land Management (BLM) will participate as cooperating agencies.

The coal estate in a portion of the Muddy Creek area was conveyed to the State of Utah School and Institutional Trust Lands Administration (SITLA), creating an outstanding mineral right on those lands. This conveyance may be temporary; ownership of the coal estate will revert to the Federal government if a specified quantity of coal is produced. As owner of an outstanding mineral right, the State of Utah has sole authority to lease the coal estate. Under the Utah Coal Rules and the Memorandum of Understanding (MOU) between SITLA, the United States Department of Agriculture, and the United States Department of the Interior, dated January 5, 1999, the Forest may provide terms and conditions that must be incorporated into the mining permit approved under the Surface Mining Control and Reclamation Act of 1977 (SMCRA) prior to mine development. Under the terms of the MOU, in providing conditions of concurrence with the mining permit the FS will abide by the standards and guidelines contained in the Forest Plan in effect on May 8, 1998 (the date on which the Utah Schools and Land Exchange Act of 1998 was ratified). Further, this MOU provides that subject to reasonable terms and conditions for the protection of the surface estate consistent with the Forest Plan, any permit requirements may not prohibit reasonable economic development of the conveyed coal estates.

The Muddy Creek Area is located approximately 10 miles northwest of Emery, Utah, immediately north of the SUFCO Mine permit area. The area to be analyzed in this EIS encompasses approximately 8,646 acres of coal lands on the Manti-La Sal National Forest in T. 20 S., R. 4 E., T. 20 S., R. 5 E., and T. 21 S., R. 5 E., SLM, in Sanpete and Sevier Counties, Utah. Included within the area is approximately 2,560 acres of coal lands that were transferred to SITLA, as part of the Utah Schools and Land Exchange Act of 1998.

The FS and cooperating agencies will conduct the environmental analysis considering the most likely mining scenarios and reasonably foreseeable alternatives. As required by the MOU and the Mineral Leasing Act, the FS will identify terms and conditions for the protection of non-mineral resources. This would allow identification of the measures required for minimizing effects to non-mineral resources consistent with the Forest Plan and provide a basis for a reasonable estimate of the tract's recoverable coal reserves. The proposed action is to identify terms and conditions necessary for the protection of non-mineral resources, consent to any Federal coal tract delineated within the Muddy Creek Area, issue surface occupancy authorizations as necessary, and to consent to any subsequent mining and reclamation plan(s).

The EIS process for this project will include preparation of a reasonably foreseeable mining scenario for the tract that will be used as the basis for determining effects. The most likely access to the coal reserves would be through the existing SUFCO Mine. Mining would be entirely underground, using predominantly longwall methods. Surface disturbance will most likely be limited to several exploration drill holes over the life of the mine with a total area not to exceed 20 acres. The disturbed areas would be reclaimed when no longer needed. Subsidence similar to that experienced over other areas mined with underground methods on the southern Wasatch Plateau is expected.

The Forest Service has determined that the Muddy Creek Area is available for further consideration for coal mining under the Land and Resource Management Plan (Forest Plan) Final EIS and Record of Decision (ROD) for the Manti-La Sal National Forest, 1986.

The Forest Service is seeking information and comments from Federal, State, and local agencies as well as individuals and organizations who may be interested in, or affected by, the proposed action. The agency invites written comments and suggestions on the issues related to the proposed action and the area being analyzed. Information received will be used to prepare the Draft and Final EIS and to make the agency decision. For most effective use, comments should be submitted to the Forest Service within 30 days from the date of publication of this notice in the Federal Register.

Agency Decisions: A. Identify terms and conditions needed to protect non-mineral resources.

B. Issue permits to authorize surface occupancy associated with the SITLA coal estate.

C. Consent to any Federal Coal Lease Tract delineated within the Muddy Creek Area.

D. Provide terms and conditions to be incorporated into any mining permit(s) issued by the State Division of Oil, Gas and Mining.

DATES: Written comments concerning issues to be considered and the scope of the analysis described in this notice should be received on or before April 12, 2004.

ADDRESSES: Send written comments to Forest Supervisor, Manti-La Sal National Forest, 599 West Price River Drive, Price, Utah 84501, ATTN: Dale Harber, Team Leader.

FOR FURTHER INFORMATION CONTACT: Questions concerning the proposed action and EIS should be addressed to Dale Harbor or Aaron Howe, Manti-La Sal National Forest, phone (435) 637-2817.

SUPPLEMENTARY INFORMATION: The EIS and Record of Decision (ROD) will tier to the Final EIS and ROD for the Manti-La Sal National Forest Land and Resource Management Plan (Forest Plan). The Forest Plan provides the overall guidance (goals, objections, standards, and management area direction) to achieve the desired future condition for the area being analyzed, and contains specific management area prescriptions for the entire forest.

Issues and alternatives to be evaluated in the analysis will be determined through scoping. The primary issues are expected to include the socioeconomic benefits of mining, the potential impacts of underground mining and mining-induced subsidence and seismicity to surface and ground water, vegetation, wildlife, cultural resources, range improvements, recreation, man-made features, and other land uses.

Agency representatives and other interested people are invited to visit with Forest Service at any time during the EIS process. Two specific time periods are identified for the receipt of formal comments on the analysis. The two comment periods are, (1) during the scoping process, the next 30 days following publication of this notice in the Federal Register and (2) during the foreman review period of the Draft EIS.

The Draft EIS is estimated to be filed with the Environmental Protection Agency (EPA) and available for public review in August, 2004. At that time the EPA will publish an availability notice in the Federal Register. The comment period on the Draft EIS will be 45 days from the date that EPA's notice of availability appears in the Federal Register. The Final EIS is expected to be released in January, 2005.

The Forest Service believes, at this early stage, it is important to give reviewers notice of several court rulings related to public participation in the environmental review process. First, reviewers of draft Environmental Impact Statements must structure their participation in the environmental review of the proposal so that it is meaningful and alerts an agency to the reviewer's position and contentions. Vermont Yankee Nuclear Power Corp. v. NRDC, 435 U.S. 519, 533 (1978). Also, environmental objections that could be raised at the draft Environmental Impact Statement stage but that are not raised until after completion of the final Environmental Impact Statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments objections are made available to the Forest Service at a time when it can meaningfully consider them and respond to them in the final Environmental Impact Statement.

To assist the Forest Service in identifying and considering issues and concerns on the proposed action, comments on the draft Environmental Impact Statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: National Forest Management Act of October 22, 1976 (Pub. L. 94-588, 90 Stat. 2949, as amended, 16 U.S.C. 472a, 476, 500, 513-516, 518, 521b. 528(note), 576b, 594-2(note), 1600(note), 1601(note), 1600-1602, 1604, 1606, 1608-1614), and Mineral Leasing Act of February 25, 1920 (Pub. L. 66-146, 41 Stat. 437, as amended; 30 U.S.C. 181-287).

Dated: March 1, 2004.
Alice B. Carlton,
Forest Supervisor, Manti-La Sal National Forest.

[FR Doc. 04-4981 Filed 3-4-04; 8:45 am]

BILLING CODE 3410-11-M